FEDERAL RESERVE SYSTEM

12 CFR Part 226

[Regulation Z; Docket No. R-1384]

Truth in Lending

June 29, 2010.

AGENCY: Board of Governors of the Federal Reserve System.

ACTION: Final rule, correction.

SUMMARY: This document corrects a typographical error in the amendatory instructions published in the Federal Register of June 29, 2010, regarding final rules amending Regulation Z, which implements the Truth in Lending Act, and the staff commentary to the regulation in order to implement provisions of the Credit Card Accountability Responsibility and Disclosure Act of 2009 that go into effect on August 22, 2010.

DATES: Effective Date: The rule is effective August 22, 2010.

FOR FURTHER INFORMATION CONTACT: Stephen Shin, Attorney, or Amy Henderson or Benjamin K. Olson, Senior Attorneys, Division of Consumer and Community Affairs, Board of Governors of the Federal Reserve System, at (202) 452-3667 or 452-2412; for users of Telecommunications Device for the Deaf (TDD) only, contact (202) 263-4869.

SUPPLEMENTARY INFORMATION: The Board published a final rule in the Federal Register on June 29, 2010, (75 FR 37526) (FR Doc. 2010-14717) amending Regulation Z, which implements the Truth in Lending Act, and the staff commentary to the regulation in order to implement provisions of the Credit Card Accountability Responsibility and Disclosure Act of 2009 that go into effect on August 22, 2010. However, the citation to the authority for part 226 was inadvertently omitted from that document's amendatory instructions. This document corrects that error.

In final rule, FR Doc. 2010-14717, published on June 29, 2010, (75 FR 37526) make the following corrections:

PART 226—TRUTH IN LENDING (REGULATION Z)

1. On page 37568, in the second column, under the amendatory instructions, insert the authority citation shown below and renumber the remainder of the amendatory instructions as applicable.

“▪1. The authority citation for part 226 continues to read as follows:

Authority: 12 U.S.C. 3806; 15 U.S.C. 1604, 1637(c)(5), and 1639(l); Pub. L. 111-24;§§ 2, 101(c), 102(b), 123 Stat. 1734.”

By order of the Board of Governors of the Federal Reserve System, July 22, 2010.
Jennifer J. Johnson,
Secretary of the Board.

[FR Doc. 2010-18410 Filed 7-27-10; 8:45 am]

BILLING CODE 6210-01-P